DEPARTMENT OF STATE

[Public Notice 4921]

Bureau of Educational and Cultural Affairs (ECA) Request for Grant Proposals: Fulbright Senior Scholar Program

Announcement Type: New Cooperative Agreement.

Funding Opportunity Number: ECA/A/E-06-01.

Catalog of Federal Domestic Assistance Number: 19.401.

Key Dates: Application Deadline: February 25, 2005.

Executive Summary: The Office of Academic Programs, Bureau of Educational and Cultural Affairs (ECA), U.S. Department of State announces an open competition for a cooperative agreement to assist in the administration of the worldwide Fulbright Senior Scholar Program. The Fulbright Senior Scholar Program is a major component of the overall Fulbright Program, which also includes the Fulbright Student Program.

For more than 55 years, the Fulbright Senior Scholar Program has offered grants for college and university faculty, as well as for non-academic professionals (such as lawyers and journalists) and independent scholars, to lecture and conduct research abroad. Tens of thousands of U.S. and non-U.S. scholars and professionals have participated in these exchanges since the Fulbright Program's inception in 1946.

The Fulbright Senior Scholar Program will send approximately 1,300 qualified U.S. scholars and professionals abroad to lecture, conduct research, and provide academic consulting at overseas institutions in FY 2006. Conversely, the program will bring approximately 920 visiting (non-U.S.) grantees from over 140 countries to the United States for similar activities.

Responsibility for the management of the Fulbright Senior Scholar Program is shared among the U.S. Department of State in Washington DC, 51 bilateral Fulbright commissions and 99 U.S. embassies overseas, and a private sector, cooperating agency in the United States. Overall policy guidelines for the Fulbright Senior Scholar Program are determined by the Presidentially-appointed J. William Fulbright Foreign Scholarship Board (FSB).

The organization that is awarded the cooperative agreement under this competition will be responsible for recruitment, selection, placement, enhancement activities for grantees, program promotion, and record keeping for both the U.S. and Visiting Fulbright Senior Scholar Programs. This work will be supervised by the Bureau of Educational and Cultural Affairs of the Department of State.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations* * *and thus to assist in the development of friendly, sympathetic and peaceful relations between the United States and the other countries of the world.” The funding authority for the program above is provided through legislation. The Fulbright Program also receives significant annual funding and other support from partner governments and private donors worldwide.

The Bureau of Educational and Cultural Affairs, as sponsor and manager of the Fulbright Senior Scholar Program, plays a significant role in the planning and implementation of all program initiatives, publicity, promotion and enhancement activities, and liaison with overseas field partners. The Bureau should also be consulted on participant selection procedures, development of selection panels, and stipend and benefit issues. Regular, ongoing contacts with Bureau managers will be required throughout the program year. Through this Request For Grant Proposal (RFGP), the Department seeks new ideas to develop effective responses to changing recruitment conditions, to improve the outreach of the program in the U.S. and overseas and to take advantage of opportunities to expand the program, as they appear.

Purpose

The Department of State will provide funding to the successful applicant organization to assist in the administration of both the U.S. and Visiting Fulbright Senior Scholar Program.

The Fulbright Program was created by the U.S. Congress at the end of World War II to provide the opportunity for future leaders to observe and better comprehend the political, economic, and cultural institutions and societies of other countries and people. In the intervening years, the Fulbright Program has evolved into the premier educational exchange program sponsored by the people of the United States through their federal government, and thus an important element in the conduct of U.S. foreign affairs. The Fulbright Program, which now extends to more than 150 foreign countries and involves approximately 5,000 participants per year, has helped to form and inform tens of thousands of the world's leaders in every academic and professional field.

The Senior Scholar portion of the Fulbright Program will engage approximately 2,220 scholars and professionals in FY 2006.

The hallmark of the Fulbright Program is binationalism. The United States Government and foreign governments, educational institutions and other public and private entities are all partners in this enterprise. In many countries of the world, financial contributions from governments or public/private sources match or exceed those of the United States. Because of its binational nature, the profile of the Fulbright Program worldwide reflects a range of objectives and interests.

Under the auspices of the J. William Fulbright Foreign Scholarship Board, approximately 850 U.S. citizens are awarded traditional, one or two semester Fulbright Senior Scholar grants each year through a merit-based, competitive process, to teach undergraduate or graduate courses, collaborate with foreign colleagues on projects, pursue individual research, conduct seminars, consult with government ministries and educational institutions, advise on curriculum development, and guest lecture at universities other than host institutions. The majority of grants under the Fulbright Senior Scholar Program are for individual awards for lecturing and/or research for an academic semester or academic year abroad. All grant opportunities are determined overseas by binational Fulbright commissions and U.S. embassies in coordination with the Department of State's Bureau of Educational and Cultural Affairs in Washington, DC. The cooperative organization administering the Fulbright Senior Scholar Program is responsible for advertising and recruiting applicants in the U.S. and for managing an academic peer review process to nominate candidates for participation in the program.

Similarly, foreign scholars and professionals receive grants each year for research, teaching, guest lecturing and academic consulting in the United States. These grantees are chosen through open, merit-based competitions in each country, which are conducted by a bilateral Fulbright commission or, in the absence of a commission, by a U.S. embassy.

In recent years, the Fulbright Senior Scholar Program has embarked on a range of new activities in response to changing conditions and requirements within the U.S. academic community and varying circumstances and emerging needs in overseas academic environments. While maintaining its traditional core long-term activities, the program now includes shorter-term grant opportunities for both American and foreign scholars, new opportunities for collaborative research and support for follow-on activities to build lasting links between U.S. and foreign academic institutions. These recent initiatives have made the Senior Scholar Program more responsive to academic environments and more relevant in supporting U.S. national interests. The Department continues to seek new program models that respond to changing recruitment and placement circumstances in the U.S. and overseas. The following are the major, recent initiatives under the Fulbright Senior Scholar Program.

In FY 2006, the Bureau of Educational and Cultural Affairs will continue to seek to strengthen exchanges with the Islamic World. It therefore seeks innovative recruitment approaches and creative strategies for the U.S. Senior Fulbright Scholar Program in countries where a significant portion of the population practices Islam. The Bureau is also looking to expand opportunities for visiting scholars from the Islamic World to engage U.S. audiences.

The Fulbright Senior Specialists Program provides short-term (two to six weeks) opportunities for approximately 450 American academic specialists annually to work with overseas, post-secondary institutions on projects ranging from lecturing and participation in teaching seminars to collaboration on curriculum and course design.

The Bureau also brings visiting scholars and professionals from abroad to the U.S. for two to six weeks to lecture at U.S. universities. This pilot initiative is currently limited to scholars from Muslim countries who address U.S. audiences about issues related to Islamic society and culture.

Through the Scholar-in-Residence component of the program, the Bureau brings scholars and professionals for an academic semester or academic year to U.S. campuses that do not often host foreign scholars. These campuses are selected through a competition managed by the cooperating agency.

The Bureau sponsors an annual collaborative research program, the Fulbright New Century Scholars Program, on a topic of worldwide significance involving 30 U.S. and foreign scholars. This program requires close collaboration between the Bureau, the cooperating agency in the United States, and Fulbright commissions and U.S. embassies overseas. The grantee organization is responsible for seeking private sector to supplement government funds based upon the program's direct relevance to current world issues.

The cooperating agency will also be responsible for the development and management of the Fulbright Alumni Initiative Awards Program that will provide small grants to alumni of the Fulbright Scholar and Senior Specialists Programs to expand upon their experience by building institutional ties between their home and host institutions.

The cooperating agency will also be responsible for other specials projects as directed by the Office of Academic Exchange Programs, Bureau of Educational and Cultural Affairs of the Department of State.

The Bureau welcomes proposals from applicant organizations for other scholarly activities consistent with Fulbright principles that are relevant to changing circumstances in the global academic community.

II. Award Information

Type of Award: Cooperative Agreement. The Bureau of Educational and Cultural Affairs' (ECA) level of involvement in this program is listed under number 1 above.

Fiscal Year Funds: 2006.

Approximate Total Funding: $6,560,000.

Approximate Number of Awards: One.

Approximate Average Award: $6,560,000.

Floor of Award Range: $6,560,000.

Ceiling of Award Range: $6,560,000.

Anticipated Award Date: Pending availability of funds, October 1, 2005.

Anticipated Project Completion Date: September 28, 2008.

Additional Information: Pending successful implementation of this program and the availability of funds in subsequent fiscal years, it is the Bureau's intent to renew this grant for at least four additional fiscal years, before openly competing it again.

III. Eligibility Information

III.1. Eligible Applicants

Applications may be submitted by public and private non-profit organizations meeting the provisions described in Internal Revenue Code section 26 U.S.C. 501(c)(3).

III.2. Cost Sharing or Matching Funds

There is no required minimum or maximum percentage for this competition. However, the Bureau encourages applicants to provide the maximum level of cost sharing and funding in support of its programs. When cost sharing is offered, it is understood and agreed that the applicant must provide the amount of cost sharing as stipulated in its proposal and later included in an approved grant agreement. Cost sharing may be in the form of allowable direct or indirect costs. For accountability, the cooperating agency must maintain written records to support all costs that are claimed as your contribution, as well as costs to be paid by the Department of State. Such records are subject to audit. The basis for determining the value of cash and in-kind contributions must be in accordance with OMB Circular A-110, (Revised), Subpart C.23—Cost Sharing and Matching. In the event that the cooperating agency does not provide the minimum amount of cost sharing as stipulated in the approved budget, ECA's contribution will be reduced in like proportion.

III.3. Other Eligibility Requirements

(a) Grants awarded to eligible organizations with less than four years of experience in conducting international exchange programs will be limited to $60,000. ECA anticipates awarding one grant, in an amount up to $6,560,000 to support program and administrative costs required to implement this exchange program. Therefore, organizations with less than four years experience in conducting international exchanges are ineligible to apply under this competition. The Bureau encourages applicants to provide maximum levels of cost sharing and funding in support of its programs.

(b) Technical Eligibility: All proposals must comply with the technical eligibility requirements specified in the Proposal Submission Instructions (PSI) and the Project Objectives, Goals, and Implementation (POGI). Failure to do so will result in proposals being declared technically ineligible and given no further consideration in the review process.

IV. Application and Submission Information

Note: Please read the complete Federal Register announcement before sending inquiries or submitting proposals. Once the RFGP deadline has passed, Bureau staff may not discuss this competition with applicants until the proposal review process has been completed.

IV.1. Contact Information To Request an Application Package

Please contact the Office of Academic Exchange Programs (ECA/A/E), Room 234, U.S. Department of State, SA-44, 301 4th Street, SW., Washington, DC 20547, telephone (202) 619-4360, fax (202) 401-5914, e-mail academic@state.gov to request a Solicitation Package. Please refer to the Funding Opportunity Number (ECA/A/E-06-01) located at the top of this announcement when making your request.

The Solicitation Package contains the Proposal Submission Instruction (PSI) document, which consists of required application forms and standard guidelines for proposal preparation.

It also contains the Project Objectives, Goals and Implementation (POGI) document, which provides specific information, award criteria and budget instructions tailored to this competition.

Please specify Ms. Susan Borja and refer to the Funding Opportunity Number (ECA/A/E-06-01) located at the top of this announcement on all other inquiries and correspondence.

IV.2. To Download a Solicitation Package via the Internet

The entire Solicitation Package may be downloaded from the Bureau's Web site at http://exchanges.state.gov/education/rfgps/menu.htm. Please read all information before downloading.

IV.3. Content and Form of Submission

Applicants must follow all instructions in the Solicitation Package. The original and 10 copies of the application should be sent per the instructions under IV.3e. “Submission Dates and Times section” below.

IV.3a. Applicants are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, recordkeeping, reporting and other requirements. The grantee will be responsible for issuing DS-2019 forms for all non-U.S. participants in the Fulbright Senior Scholar Program.

A copy of the complete regulations governing the administration of Exchange Visitor (J) programs is available at http://exchanges.state.gov or from: United States Department of State, Office of Exchange Coordination and Designation, ECA/EC/ECD—SA-44, Room 734, 301 4th Street, SW., Washington, DC 20547, telephone: (202) 401-9810, fax: (202) 401-9809.

Please refer to Solicitation Package for further information.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘'Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3d.4. Describe your plans for: i.e., sustainability, overall program management, staffing, coordination with ECA, Fulbright commissions, and U.S. embassies' Public Affairs Sections or any other requirements etc.

IV.3e. Please take the following information into consideration when preparing your budget:

IV.3e.1. Applicants must submit a comprehensive budget for the entire program. Depending on the availability of funds, up to $6,560,000 in U.S. Government funding will be available to support the administration of the Fulbright Senior Scholar Program worldwide in FY 2006. In addition, a program budget totaling approximately $45,000,000 for the global Fulbright Senior Scholar Program will be transferred to the grantee organization at regular intervals to cover the cost of individual participant grants.

IV.3e.2. Allowable costs for the program include the following: Staff salaries and benefits, rent, furniture and equipment, travel, communications, printing/publishing, and other fees associated with the normal administration of exchange programs.

Please refer to the Solicitation Package for complete budget guidelines and formatting instructions.

IV.3f. Submission Dates and Times

Application Deadline Date: February 25, 2005.

Explanation of Deadlines

In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original and 10 hard copies of the application should be sent to: U.S. Department of State, SA-44, Bureau of Educational and Cultural Affairs, Ref.: ECA/A/E 06-01, Program Management, ECA/EX/PM, Room 534, 301 4th Street, SW., Washington, DC 20547.

Along with the Project Title, all applicants must enter the above Reference Number (ECA/A/E 06-01) in Box 11 on the SF-424 contained in the mandatory Proposal Submission Instructions (PSI) of the solicitation document.

IV.3g. Intergovernmental Review of Applications

Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Affairs Section at U.S. embassies overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below. These criteria are not rank ordered and all carry equal weight in the proposal evaluation:

1. Program Planning: Proposals should respond to the planning requirements outlined in the RFGP. Planning should demonstrate substantive and rigorous preparation. A detailed agenda and work plan, including a timeline, should demonstrate feasibility and the applicant's logistical capacity to implement the program.

2. Ability to Achieve Program Objectives: Proposals should clearly demonstrate how the applicant will fulfill the program's objectives and implement plans, while demonstrating innovation and a commitment to academic excellence. Proposals should demonstrate a capacity for flexibility in the management of the program.

3. Multiplier Effect/Impact: Proposed programs should strengthen long-term mutual understanding, including maximum sharing of information and establishment of long-term institutional and individual linkages.

4. Support of Diversity: Proposals should demonstrate substantive support of the Bureau's policy on diversity (included in Solicitation Packet). Achievable and relevant features should be cited in both program administration (selection of participants, program venues and program evaluation) and program content (orientations, program meetings, resource materials and follow-up activities). Individual grant awards as well as institutional participation should reflect the Fulbright Program's historic commitment to diversity.

5. Institutional Capacity: Proposed personnel and institutional resources should be adequate and appropriate to achieve Fulbright Senior Scholar Program goals in all respects. Applicants should demonstrate well-established links to the scholarly and professional community in the U.S. and knowledge of other educational environments, particularly an awareness of conditions in societies and educational institutions outside of the United States as they apply to academic and professional exchange programs. Applicants should demonstrate their capacity to provide information management compatible with ECA's systems as described in section VI.4. “Additional Program Data Requirements” in the RFGP.

6. Institution's Record/Ability: Proposals should demonstrate an institutional record of successful exchange programs, including responsible fiscal management and full compliance with all reporting requirements for past Bureau grants as determined by Bureau Grants Staff. The Bureau will consider the past performance of prior recipients and the demonstrated potential of new applicants.

7. Follow-on Activities: Proposals should provide a plan for continued follow-on activity (without Bureau support) ensuring that Bureau supported programs are not isolated events.

8. Project Evaluation: Proposals should include a plan to evaluate the success of the Fulbright Senior Scholar Program in all its components, both as program activities unfold and at the end of the individual grant cycles. Applicants should anticipate working closely with ECA on these evaluation activities.

9. Cost Effectiveness: The overhead and administrative components of the proposal, including salaries and honoraria, should be kept as low as possible. All other items should be necessary and appropriate.

10. Cost Sharing: The proposal should maximize cost sharing through U.S. private sector support as well as institutional direct funding contributions. Preference will be given to proposal that demonstrate innovative approaches to the leveraging of funds, fundraising, and other sharing of costs. Note: The Fulbright Senior Scholar Program has historically enjoyed significant financial and other support from the U.S. and foreign academic communities and it is important that such support continues and be expanded wherever possible.

VI. Award Administration Information

VI.1. Award Notices

Final awards cannot be made until funds have been appropriated by Congress, allocated, and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information:

http://www.whitehouse.gov/omb/grants.

http://exchanges.state.gov/education/grantsdiv/terms.htm#articleI

VI.3. Reporting Requirements

You must provide ECA with a hard copy original plus two copies of the following reports:

(1) A final program and financial report no more than 90 days after the expiration of the first year of the cooperative agreement;

(2) Quarterly program and financial reports.

Grantees will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VI.4. Additional Program Data Requirements

The grantee awarded this cooperative agreement will be required to maintain specific data on program participants and activities in an electronically accessible database format that can be shared with the Bureau on demand. As a minimum, the data must include the following: Full name of applicant, home country address and contact information, host country affiliation, academic or professional discipline and biographical information (for example, but not limited to, date of birth, gender, country of birth, country of citizenship) for all participants awarded funding under the auspices of the Fulbright Senior Scholar Program. This includes the traditional Fulbright Senior Scholar Program and the recently developed New Century Scholars Program, Fulbright Senior Specialists Program, and the Direct Access to the Muslim World Visiting Specialist Program for scholars from the Islamic World. Applicant must consult with ECA/A/E to determine the requirements of the Bureau's Academic Exchanges Information System (AEIS) database.

VII. Department Contacts

For questions about this announcement, contact: Ms. Susan Borja, Office of Academic Exchange Programs (ECA/A/E), Room 234, U.S. Department of State, SA-44, 301 4th Street, SW., Washington, DC 20547, Telephone (202) 619-4360, Fax (202) 401-5914, e-mail academic@state.gov.

All correspondence with the Bureau concerning this RFGP should reference the above title and number: ECA/A/E-06-01.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: December 2, 2004.
C. Miller Crouch,
Principal Deputy Assistant Secretary, Bureau of Educational and Cultural Affairs, Department of State.

[FR Doc. 04-27036 Filed 12-8-04; 8:45 am]

BILLING CODE 4710-05-P